DEPARTMENT OF ENERGY

Federal Energy Regulatory Commission

[Docket No. EC05-22-000, et al.]

Mirant Oregon, LLC, et al.; Electric Rate and Corporate Filings

December 1, 2004.

The following filings have been made with the Commission. The filings are listed in ascending order within each docket classification.

1. Mirant Oregon, LLC, Avista Corporation

[Docket Nos. EC05-22-000, ER99-1435-001, ER02-1331-005]

Take notice that on November 23, 2004, Mirant Oregon, LLC (Mirant Oregon) and Avista Corporation d/b/a Avista Utilities (Avista Utilities) (together, Applicants) filed with the Federal Energy Regulatory Commission, pursuant to section 203 of the Federal Power Act, a Joint Application for Authorization to Transfer Jurisdictional Facilities, Request for Expedited Treatment and Notice of Change in Status with respect to the disposition of jurisdictional assets relating to the transfer to Avista Utilities of Mirant Oregon's 50 percent ownership interest in Coyote Springs 2. Applicants request confidential treatment for the Asset Purchase and Sale Agreement by and between Mirant Oregon, LLC and Avista Corporation, dated October 13, 2004, which is attached as Exhibit I to the Application.

Comment Date: 5 p.m. Eastern Time on December 17, 2004.

2. United States Department of Energy

[Docket No. EF05-5071-000]

Take notice that on November 24, 2004, the Deputy Secretary of the Department of Energy, by Rate Order No. WAPA-116, did confirm and approve on an interim basis, to be effective on April 1, 2005, the Western Area Power Administration's power rate formula contained in Contract No. 94-SLC-0254 and Contract No. 94-SLC-0253.

The rate formula will be in effect on and interim basis pending the Commission's approval of it or a substitute rate on a final basis ending March 31, 2010.

Comment Date: 5 p.m. Eastern Time on December 15, 2004.

3. San Diego Gas & Electric Company v. Sellers of Energy and Ancillary Services Into Markets Operated by the California Independent System Operator Corporation and the California Power Exchange; Investigation of Practices of the California Independent System Operator and the California Power Exchange

[Docket Nos. EL00-95-119, EL00-98-106]

Take notice that on November 24, 2004, the California Independent System Operator Corporation (ISO) submitted a filing in compliance with the order issued in the captioned dockets on October 27, 2004, 109 FERC ¶ 61,078.

The ISO states that this filing has been served upon all parties on the official service lists for the captioned dockets. In addition, the ISO has posted this filing on the ISO Home Page.

Comment Date: 5 p.m. Eastern Time on December 15, 2004.

4. City of Azusa, California

[Docket No. EL05-32-000]

Take notice that on November 29, 2004, the City of Azusa, California (Azusa) submitted for filing changes to its Transmission Revenue Balancing Account Adjustment and to Appendix I of its transmission owner tariff. Azusa requests a January 1, 2005 effective date for its filing. Azusa further requests that the Commission waive any fees for the filing of its revisions.

Comment Date: 5 p.m. Eastern Time on December 20, 2004.

5. Duke Power, a Division of Duke Energy Corporation

[Docket No. ER96-110-012]

Take notice that, on November 24, 2004, Duke Power, a division of Duke Energy Corporation, submitted a supplemental response to the Commission's deficiency letter issued October 29, 2004 in Docket Nos. ER96-110-010 and ER96-110-011.

Duke Power states that copies of the filing were served on parties on the official service list in the above-captioned proceeding.

Comment Date: 5 p.m. Eastern Time on December 15, 2004.

6. California Independent System Operator Corporation

[Docket No. ER03-407-005]

Take notice that on November 24, 2004, the California Independent System Operator Corporation (ISO) submitted a filing in compliance with the Commission's order issued October 29, 2004, in Docket No. ER03-407-004, 109 FERC ¶ 61,098.

The ISO states that this filing has been served upon all parties on the official service list for the captioned docket. In addition, the ISO states that it has posted this filing on the ISO Home Page.

Comment Date: 5 p.m. Eastern Time on December 15, 2004.

7. Entergy Services, Inc.

[Docket No. ER03-753-003]

Take notice that on November 24, 2004, Entergy Services, Inc. (Entergy) submitted a revised version of Service Schedule MSS-4 of the Entergy System Agreement. Entergy states that the changes proposed to MSS-4 are designed solely to conform the terms of MSS-4 to the terms of the MSS-4 underlying the Presiding Judge's October 6, 2004 certification of the MSS-4 settlement among Entergy and the other settling parties in this proceeding.

Entergy states that a copy of this filing is being served on all parties on the official service lists in Docket No. ER03-753 and Docket Nos. ER03-583, et al.

Comment Date: 5 p.m. Eastern Time on December 15, 2004.

8. Xcel Energy Operating Companies

[Docket No. ER04-419-006]

Take notice that on November 26, 2004, Xcel Energy Services Inc. (XES) filed, on behalf of the Xcel Energy Operating Companies, proposed compliance revisions to the Xcel Energy Operating Companies Joint Open Access Transmission Tariff (Joint OATT) in compliance with Commission's Order on Rehearings issued October 26, 2004 in Docket No. ER04-419-001 et al., Xcel Energy Operating Companies, 109 FERC ¶ 61,072 (2004). XES states that the compliance tariff sheets are proposed to be effective April 26, 2004, pursuant to the October 26 Order.

Comment Date: 5 p.m. Eastern Time on December 17, 2004.

9. Midwest Independent Transmission System Operator, Inc., Midwest Independent Transmission System Operator, Inc., PJM Interconnection, L.L.C., et al.; Midwest Independent Transmission System Operator, Inc., PJM Interconnection, L.L.C., et al.; Ameren Services Company, et al.

[Docket Nos. ER05-6-001, EL04-135-003, EL02-111-020, EL03-212-017]

Take notice that, on November 24, 2004, PJM Interconnection L.L.C. (PJM) and the PJM Transmission Owners, acting through the PJM and PJM West Transmission Owners Agreement Administrative Committees, submitted a compliance filing pursuant to the Commission's Order On Transmission Rate Proposals, issued on November 18, 2004, in Docket Nos. ER05-6-000, et al., 109 FERC ¶ 61,168 (2004). PJM states that the compliance filing contains revisions to the PJM Open Access Transmission Tariff. PJM requests an effective date of December 1, 2004.

PJM states that copies of this filing were served upon all PJM members and utility regulatory commissions in the PJM Region and on parties on the official service list in the above-captioned proceeding.

Comment Date: 5 p.m. Eastern Time on December 15, 2004.

10. Midwest Independent Transmission System Operator, Inc.; Midwest Independent Transmission System Operator, Inc., PJM Interconnection, L.L.C., et al.; Midwest Independent Transmission System Operator, Inc., PJM Interconnection, L.L.C., et al.; Ameren Services Company, et al.

[Docket Nos. ER05-6-002, EL04-135-004, EL02-111-021, EL03-212-018]

Take notice that, on November 24, 2004, American Electric Power Service Corporation (AEP) submitted a “Compliance Filing in the Alternative” in response to the Commission's Order On Transmission Rate Proposals issued November 18, 2004 in Docket Nos. ER05-6-000, EL04-135-000, EL02-111-010 and EL03-212-018. AEP requests an effective date of December 1, 2004.

AEP states that a copy of this filing has been served on the official service list.

Comment Date: 5 p.m. Eastern Time on December 15, 2004.

11. Midwest Independent Transmission System Operator, Inc., Midwest Independent Transmission System Operator, Inc., Midwest Independent Transmission System Operator, Inc., Ameren Services Co., et al.

[Docket Nos. ER05-6-003, EL04-135-005, EL02-111-022, EL03-212-019]

Take notice that on November 24, 2004, the Midwest Independent Transmission System Operator, Inc. (Midwest ISO) and Midwest ISO Transmission Owners (collectively, Applicants) jointly submitted for filing a compliance filing pursuant to the Commission's order issued November 18, 2004 in Docket Nos. ER05-6, EL04-135, EL02-111, and EL03-212, Midwest Independent Transmission Sys. Operator, Inc., 109 FERC ¶ 61,168 (2004).

Applicants state that copies of the filing were served on parties on the official service list.

Comment Date: 5 p.m. Eastern Time on December 15, 2004.

12. Diablo Winds, LLC

[Docket No. ER05-222-001]

Take notice that on November 29, 2004, Diablo Winds, LLC (Applicant) submitted a Supplement to the Application for Market Based Rate Authority filed on November 16, 2004. Applicant states that it owns and will operate a wind-powered electric generation facility with a nameplate capacity of up to 18 MW (the Facility).

Applicant states that a copy of the filing was served upon the Florida Public Service Commission.

Comment Date: 5 p.m. Eastern Time on December 9, 2004.

13. Gilroy Energy Center, LLC

[Docket No. ER05-248-000]

Take notice that on November 23, 2004, Gilroy Energy Center, LLC (Gilroy) submitted revised rate schedule sheets to Gilroy First Revised Rate Schedule FERC No. 2, consisting of a Must-Run Service Agreement and accompanying schedules.

Gilroy states that copies of the filing were served upon the California Independent System Operator Corporation, the California Public Utilities Commission, the California Electricity Oversight Board and Pacific Gas and Electric Company.

Comment Date: 5 p.m. Eastern Time on December 14, 2004.

14. Goose Haven Energy Center, LLC

[Docket No. ER05-250-000]

Take notice that on November 23, 2004, Goose Haven Energy Center, LLC (Goose Haven) submitted revised rate schedule sheets to Goose Haven Rate Schedule FERC No. 2, consisting of a Reliability Must-Run Service Agreement and accompanying schedules.

Goose Haven states that copies of the filing were served upon the California Independent System Operator Corporation, the California Public Utilities Commission, the California Electricity Oversight Board and Pacific Gas and Electric Company.

Comment Date: 5 p.m. Eastern Time on December 14, 2004.

15. Los Esteros Critical Energy Facility, LLC

[Docket No. ER05-251-000]

Take notice that on November 23, 2004, Los Esteros Critical Energy Facility, LLC (LECEF) submitted revised rate schedule sheets to Los Esteros Critical Energy Facility Rate Schedule FERC No. 2, consisting of a Reliability Must-Run Service Agreement and accompanying schedules.

LECEF states that copies of the filing were served upon the California Independent System Operator Corporation, the California Public Utilities Commission, the California Electricity Oversight Board and Pacific Gas and Electric Company.

Comment Date: 5 p.m. Eastern Time on December 14, 2004.

16. Creed Energy Center, LLC

[Docket No. ER05-252-000]

Take notice that on November 23, 2004, Creed Energy Center, LLC (Creed) submitted revised rate schedule sheets to Creed Energy Center Rate Schedule FERC No. 2, consisting of a Reliability Must-Run Service Agreement and accompanying schedules.

Creed states that copies of the filing were served upon the California Independent System Operator Corporation, the California Public Utilities Commission, the California Electricity Oversight Board and Pacific Gas and Electric Company.

Comment Date: 5 p.m. Eastern Time on December 14, 2004.

17. Geysers Power Company, LLC

[Docket No. ER05-253-000]

Take notice that on November 23, 2004, Geysers Power Company, LLC (Geysers Power) submitted revised rate schedule sheets to Geysers Power Company First Revised Rate Schedule FERC No. 4 and Geysers Power Company Rate Schedule FERC No. 5, consisting of Reliability Must-Run Service Agreements and accompanying schedules.

Geysers Power states that copies of the filing were served upon the California Independent System Operator Corporation, the California Public Utilities Commission, the California Electricity Oversight Board and Pacific Gas and Electric Company.

Comment Date: 5 p.m. Eastern Time on December 14, 2004.

18. South Carolina Electric & Gas Company

[Docket No. ER05-254-000]

Take notice that on November 23, 2004, South Carolina Electric & Gas Company (SCE&G), submitted to the Commission a Notice of Cancellation for Rate Schedule No. T1.S1.9, under SCE&G's FERC Electric Tariff, Third Revised Volume No. 1, with Central Electric Power Cooperative (Central). SCE&G requests an effective date of November 1, 2004.

SCE&G states that a Notice of the proposed cancellation has been served on Central and the South Carolina Public Service Commission.

Comment Date: 5 p.m. Eastern Time on December 14, 2004.

19. El Paso Electric Company

[Docket No. ER05-255-000]

Take notice that, on November 19, 2004, El Paso Electric Company (EPE) tendered for filing Notices of Cancellation for the FERC Rate Schedules No. 25, 28, 29, 30, 31, 33, 37, 43, 44, 47, 51, 52, 54, 55, 64, 67, 68, 69, 70, 71, 77, 81, 100, 101, 102, and 103. EPE states that these rate schedules are associated with agreements originally executed between EPE and Arizona Public Service Company, Public Service Company of New Mexico, Salt River Project Agricultural Improvement and Power District, Southern California Edison, and Tucson Gas & Electric Company; the Department of Water and Power of the City of Pasadena; the City of Glendale; the City of Burbank; the Company and Department of Water and Power of the City of Los Angeles; Arizona Electric Power Cooperative; San Diego Gas & Electric Company; the City of Farmington; the City of Riverside; M-S-R Public Power Agency; the City of Anaheim; Imperial Irrigation District; the State of California Department of Water Resources; Alamito Company; Citizens Utilities Company; the City of Azusa; the City of Banning; the City of Colton; the City of Vernon; Idaho Power Company; and Utah Associated Municipal Power Systems, respectively. EPE requests an effective date of January 31, 2005.

EPE states that copies of this filing were served upon the co-parties to the above-listed rate schedules.

Comment Date: 5 p.m. Eastern Time on December 14, 2004.

20. Virginia Electric and Power Company

[Docket No. ER05-256-000]

Take notice that on November 23, 2004, Virginia Electric and Power Company, (Virginia Power) doing business as Dominion Virginia Power, tendered for filing a revised Generator Interconnection and Operating Agreement (Revised Interconnection Agreement) between Dominion Virginia Power and CPV Cunningham Creek LLC (CPV). By this filing Virginia Power seeks to modify certain provisions and the milestone dates in Appendices F and G in connection with a settlement agreement reached between Dominion Virginia Power and CPV. Dominion Virginia Power requests an effective date January 22, 2005.

Dominion Virginia Power states that copies of the filing were served upon CPV and the Virginia State Corporation Commission.

Comment Date: 5 p.m. Eastern Time on December 14, 2004.

21. Central Maine Power Company

[Docket No. ER05-257-000]

Please take notice that on November 24, 2004, Central Maine Power Company (CMP) submitted an Executed Continuing Site/Interconnection Agreements (CSIA) between CMP and Messalonskee Stream Hydro, LLC, which replaces an unexecuted CSIA filed with and accepted by the Commission in Docket No. ER04-425-000. CMP states that this executed CSIA, which is intended to replace the unexecuted CSIA without changing any terms and conditions, is designated as FERC Electric Tariff, Fifth Revised, Vol. No. 3, First Revised Service Agreement No. 201. CMP requests an effective date of December 23, 2003.

CMP states that copies of this filing have been served on the parties.

Comment Date: 5 p.m. Eastern Time on December 15, 2004.

22. Central Maine Power Company

[Docket No. ER05-258-000]

Please take notice that on November 24, 2004, Central Maine Power Company (CMP) submitted an Executed Continuing Site/Interconnection Agreement (CSIA) between CMP and Ledgemere Hydro, LLC, seeking to replace an unexecuted CSIA filed with and accepted by the Commission in Docket No. ER04-425-000. CMP states that this executed CSIA, which is intended to replace the unexecuted CSIA without changing any terms and conditions, is designated as FERC Electric Tariff, Fifth Revised, Vol. No. 3, First Revised Service Agreement No. 202. CMP requests an effective date of December 23, 2003.

CMP states that copies of this filing have been served on the parties.

Comment Date: 5 p.m. Eastern Time on December 15, 2004.

23. Central Maine Power Company

[Docket No. ER05-259-000]

Take notice that on November 24, 2004, Central Maine Power Company (CMP) submitted an Executed Continuing Site/Interconnection Agreements (CSIA) between CMP and Kezar Falls Hydro, LLC, seeking to replace an unexecuted CSIA filed with and accepted by the Commission in Docket No. ER04-425-000. CMP states that this executed CSIA, which is intended to replace the unexecuted CSIA without changing any terms and conditions, is designated as FERC Electric Tariff, date of December 23, 2003.

CMP states that copies of this filing have been served on the parties.

Comment Date: 5 p.m. Eastern Time on December 15, 2004.

24. Midwest Independent Transmission System Operator, Inc.

[Docket No. ER05-260-000]

Take notice that on November 23, 2004, the Midwest Independent Transmission System Operator, Inc. (Midwest ISO), the Midwest ISO Transmission Owners, and the Midwest Stand Alone Transmission Companies (collectively, Filing Parties) submitted for filing proposed revisions to the Agreement of Transmission Facilities Owners to Organize the Midwest Independent Transmission System Operator, Inc., a Delaware Non-Stock Corporation to accommodate Great River Energy becoming a new transmission owner member of the Midwest ISO. The Midwest ISO requests an effective date of December 1, 2004.

The Midwest ISO states that the Filing Parties have also requested waiver of the service requirements set forth in 18 CFR 385.2010. The Midwest ISO states that it has electronically served a copy of this filing, with attachments, upon all Midwest ISO Members, Member representatives of Transmission Owners and Non-Transmission Owners, as well as all state commissions within the region. In addition, the Midwest ISO states that the filing has been electronically posted on the Midwest ISO's Web site at http://www.midwestiso.org under the heading Filings to FERC for other interested parties in this matter. The Midwest ISO indicates that it will provide hard copies to any interested parties upon request.

Comment Date: 5 p.m. Eastern Time on December 14, 2004.

25. Constellation Energy Commodities Group, Inc.

[Docket No. ER05-261-000]

Take notice that on November 24, 2004 Constellation Energy Commodities Group, Inc. (Constellation) submitted a Notice of Succession pursuant to section 205 of the Federal Power Act and sections 35.16 and 131.51 of the Commission's regulations. Constellation states that as a result of a name change, Constellation is succeeding to the FERC Electric Rate Schedule Nos. 11 and 12 of Constellation Power Source, Inc. Constellation requests an effective date of November 1, 2004.

Comment Date: 5 p.m. Eastern Time on December 15, 2004.

26. American Transmission Company LLC

[Docket No. ER04-262-000]

Take notice that on November 24, 2004, American Transmission Company LLC (ATCLLC) tendered for filing a Distribution-Transmission Interconnection Agreement between ATCLLC and Prairie du Sac Utilities. ATCLLC requests an effective date of November 1, 2004.

Comment Date: 5 p.m. Eastern Time on December 15, 2004.

27. Brownsville Power I, L.L.C., Caledonia Power I, L.L.C., Cinergy Capital & Trading, Inc.

[Docket Nos. ER05-263-000, ER05-264-000, ER05-265-000]

Take notice that on November 24, 2004, Brownsville Power I, L.L.C., Caledonia Power I, L.L.C., (Brownsville) and Cinergy Capital & Trading, Inc. (together, Applicants) submitted amendments to their respective market-based rate tariffs to substitute a new index price cap for sales between affiliates and to conform the tariffs to industry standards for sales of products in RTO markets.

Applicants state that copies of the filing were served upon Applicants' customers under their respective market-based rate tariffs.

Comment Date: 5 p.m. Eastern Time on December 15, 2004.

28. Southern California Edison Company

[Docket No. ER05-266-000]

Take notice that on November 26, 2004, Southern California Edison Company (SCE) submitted revised rate sheets to the Amended and Restated Ormond Beach Generating Station Radial Lines Agreement between SCE and Reliant Energy Ormond Beach, L.L.C. (Reliant). SCE states that the purpose of this filing is to reflect that Reliant will pay to SCE the estimated cost of replacement of certain equipment. SCE requests an effective date of November 12, 2004.

SCE states that copies of the filing were served upon the Public Utilities Commission of the State of California and Reliant Energy Ormond Beach, L.L.C.

Comment Date: 5 p.m. Eastern Time on December 17, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-3531 Filed 12-7-04; 8:45 am]

BILLING CODE 6717-01-P